DEPARTMENT OF STATE

[Public Notice 6680]

60-Day Notice of Proposed Information Collection: INTERNational Connections, Form DS-5103

AGENCY: Department of State.

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

• Title of Information Collection: INTERNationalConnections.

• OMB Control Number: None.

• Type of Request:: New Collection.

• Originating Office: Bureau of Human Resources, Office of Recruitment, Examination and Employment (HR/REE).

• Form Number: None.

• Respondents: Alumni of the U.S. Department of State's Student Programs, including internships, Pickerings, Rangels, Stay-in-Schools, Co-ops, etc.

• Estimated Number of Respondents: 1,000.

• Estimated Number of Responses: 1,000.

• Average Hours per Response: 30 minutes.

• Total Estimated Burden: 500.

• Frequency: On Occasion.

• Obligation to Respond: Voluntary.

DATES: The Department will accept comments from the public up to 60 days from June 23, 2009.

ADDRESSES: You may submit comments by any of the following methods:

• Mailing Address: U.S. Department of State, 2401 E Street. NW., SA1-518H, Washington, DC 20520. Attn.: Rachel Friedland.

• E-mail: Friedlandrc@state.gov.

• If you have access to the Internet you may submit comments electronically by going to http://www.Regulations.Gov/index.cfm.

You must include the DS form number (if applicable), information collection title, and OMB control number in any correspondence.

FOR FURTHER INFORMATION CONTACT: Direct requests for additional information regarding the collection listed in this notice, including requests for copies of the proposed information collection and supporting documents, to Rachel C. Friedland, 2401 E Street, NW., Washington, DC 20520, who may be reached on (202) 261-8055 or at Friedlandrc@state.gov.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of Proposed Collection

The Department's student internship programs provide a key source of potential candidates who have an interest in, and are qualified, to become future Department employees. Naturally, HR/REE wants to strengthen and maintain its connections to this group, fostering and mentoring a pool of candidates from which to obtain successful recruits.

In June 2008, HR/REE surveyed over 3,500 former interns who served from 2005 through spring 2008. The intern alumni were queried as to their motivation in seeking an internship, whether or not they had pursued a career with either the Foreign Service or Civil Service, and what their recommendations would be for the best ways for the Department to maintain contact after the conclusion of their internships. Intern alumni endorse continued contact with Department representatives mainly through electronic means and Web site reminders of career opportunities.

In an effort to address these findings and provide viable solutions to improving student engagement prior to, during and following an internship, the Department developed an intern engagement strategy that will ultimately result in a measurable conversion of interns into Department hires for the Foreign or Civil Service. The foundation of this strategy is INTERNational Connections, a Web-based career networking site for current, former and future interns that collects pertinent information about them, their experiences and their career goals.

Methodology

Currently, the Department of State internship program employs over 1,000 participants in the summer, in addition to fall and spring internships. Unfortunately, a tracking system does not exist which would enable the Department to capture the intern-to-hire ratio or conversion rate, or track this statistic over a period of time. This project would provide that missing link.

Users will register online at http://careers.state.gov/internconnect and create a profile that includes the aforementioned information.

Dated: June 16, 2009.
Ruben Torres,
Executive Director, Bureau of Human Resources, U.S. Department of State.

[FR Doc. E9-14731 Filed 6-22-09; 8:45 am]

BILLING CODE 4710-15-P